DEPARTMENT OF HEALTH AND HUMAN SERVICES

Centers for Disease Control and Prevention

[60-Day-11-11JY]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Daniel Holcomb, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Barriers to Occupational Injury Reporting by Workers: A NEISS-Work Telephone Interview Survey—New—National Institute for Occupational Safety and Health (NIOSH), Centers for Disease Control and Prevention (CDC).

Background and Brief Description

Each year about 5,400 workers die from a work-related injury and 4 million private industry workers report a nonfatal injury or illness. There are 3.4 million workers treated in U.S. hospital emergency departments annually for nonfatal occupational injuries and illnesses [1]. Although studies indicate that we have reduced the number of nonfatal injuries in recent decades, there is evidence that nonfatal occupational injury surveillance significantly underreports workplace injuries. This presumed undercount potentially decreases health and safety funding because of a false sense of improvement in the occupational injury rates. It also increases the misdirection of scarce safety and health resources because hazardous workplaces are not appropriately identified or assessed and intervention efforts cannot be properly targeted or evaluated. It is this basic need for reliable and comprehensive occupational injury surveillance that led to the 1987 National Academy of Science report Counting Injuries and Illnesses in the Workplace—Proposals for a Better System [6] and the 2008 Congressional Report Hidden Tragedy: Underreporting of Workplace Injuries and Illnesses [1].

The proposed pilot research addresses two facets of nonfatal occupational injury reporting noted in these reports—understanding barriers and incentives to reporting occupational injuries and using this knowledge to assess and improve our surveillance activities. The objectives of this project are to (1) characterize and quantify the relative importance of incentives and disincentives to self-identifying work-relatedness at the time of medical treatment and to employers; (2) characterize individual and employment characteristics that are associated with non-reporting of workplace injuries and incentives and disincentives to reporting; (3) test the reliability of hospital abstractors to properly distinguish between work-related and non-work-related injuries; and (4) evaluate the feasibility, need, and requirements for a future larger study. Results will be disseminated in multiple forms to reach a variety of occupational health and safety stakeholders.

This project will use the occupational and the all injuries supplements to the National Electronic Injury Surveillance System (NEISS-Work and NEISS-AIP, respectively) to identify telephone interview survey participants. NEISS-Work and NEISS-AIP, collected by the Consumer Product Safety Commission (CPSC), capture people who were treated in the emergency department (ED) for a work-related illness or injury (NEISS-Work) or any injury, regardless of work-relatedness (NEISS-AIP). Interview respondents will come from two subgroups—individuals treated for a work-related injury and individuals who were treated for a non-work-related injury but who were employed during the time period that the injury occurred.

Data collection for the telephone interview survey will be done via a questionnaire. This questionnaire contains questions about the respondent's injury that sent them to the ED, the characteristics of the job they were working when they were injured, their experiences reporting their injury to the ED and their employer (if applicable), and their beliefs about the process and subsequent consequences of reporting an injury. The questionnaire was designed to take 30 minutes to complete. It contains a brief introduction that includes the elements of informed consent and asks for verbal consent to be given. The study has received a waiver of written informed consent by the NIOSH Human Subjects Review Board. The questionnaire includes a brief series of questions to screen out individuals who were not employed at the time the injury occurred or was made worse; who are younger than age 20 or older than age 64; who do not speak English; who were employed on a farm or ranch or were self-employed, an independent contractor, or a day laborer at the time of injury; who did not experience an acute injury; or who missed more than three days from work because of the injury. The informed consent procedure and screening questions take around five minutes to complete.

Approximately 600 interviews will be completed. There are no costs to respondents other than their time.

Estimated Annualized Burden Hours
Type of respondent | Number of respondents | Average burden per response (in hours) | Total burden hours
U.S. workers with work-related injury | 600 | 30/60 | 300
U.S. workers with non-work-related injury | 600 | 30/60 | 300
Total |  |  | 600

Dated: August 15, 2011.
Daniel Holcomb,
Reports Clearance Officer, Centers for Disease Control and Prevention.

[FR Doc. 2011-21197 Filed 8-18-11; 8:45 am]

BILLING CODE 4163-18-P